DEPARTMENT OF COMMERCE

National Oceanic and Atmospheric Administration

50 CFR Part 648

[Docket No. 991228354-0078-02; I.D. 062300C]

Fisheries of the Northeastern United States; Atlantic Mackerel, Squid, and Butterfish Fisheries; Closure of Fishery for Loligo Squid

AGENCY: National Marine Fisheries Service (NMFS), National Oceanic and Atmospheric Administration (NOAA), Commerce.

ACTION: Closure.

SUMMARY: NMFS announces that the directed fishery for Loligo squid in the exclusive economic zone (EEZ) will be closed. Vessels issued a Federal permit to harvest Loligo squid may not retain or land more than 2,500 lb (1.13 mt) per trip of Loligo squid for the remainder of the quota period. This action is necessary to prevent the fishery from exceeding the Period II quota and allow for rebuilding of this overfished stock, while allowing for fishing throughout the year.

DATES: Effective 0001 hours, July 2, 2000, through 0001 hours, September 1, 2000.

FOR FURTHER INFORMATION CONTACT: Allison Ferreira, Fishery Management Specialist, 978-281-9103, fax 978-281-9135, e mail allison.ferreira@noaa.gov.

SUPPLEMENTARY INFORMATION: Regulations governing the Loligo squid fishery are found at 50 CFR part 648. The regulations require annual specifications for initial optimum yield as well as the amounts for allowable biological catch, domestic annual harvest (DAH), domestic annual processing, joint venture processing, and total allowable levels of foreign fishing for the species managed under the Atlantic Mackerel, Squid, and Butterfish Fishery Management Plan. The procedures for setting the annual initial specifications are described in § 648.21.

The 2000 specification of DAH for Loligo squid was set at 13,000 mt (65 FR 16341, March 28, 2000). This amount is allocated by trimester based on the following table.

Table 2._Loligo 4-Month Period Allocations
4-month Period | Percent | Metric Tons
I (Jan-Apr) | 42 | 5,460
II (May-Aug) | 18 | 2,340
III (Sep-Dec) | 40 | 5,200
Total | 100 | 13,000

Section 648.22 requires the closure of the directed Loligo squid fishery in the EEZ when 90 percent of the DAH for Loligo squid is harvested in either Period I or II, or 95 percent is harvested in Period III. NMFS is further required to notify, in advance of the closure, the Executive Directors of the Mid-Atlantic, New England, and South Atlantic Fishery Management Councils; mail notification of the closure to all holders of Loligo squid permits at least 72 hours before the effective date of the closure; provide adequate notice of the closure to recreational participants in the fishery; and publish notification of the closure in the Federal Register.

The regulations at 50 CFR 648.22 require NMFS to close the Loligo squid directed fishery when 90 percent of the Period II quota is harvested. The 2000 Period II quota for Loligo squid is 2,340 mt or 5,159,700 lbs (65 FR 16341, March 28, 2000). NMFS has determined, based on landings and other available information, that 90 percent of the DAH for Loligo squid in Period II, will be harvested by July 1, 2000. Therefore, effective 0001 hours, July 2, 2000, the directed fishery for Loligo squid is closed and vessels issued Federal permits for Loligo squid may not retain or land more than 2,500 lb (1.13 mt). The directed fishery will reopen effective 0001 hours, September 1, 2000, which marks the beginning of the Period III quota.

Classification

This action is required by 50 CFR part 648 and is exempt from review under E.O. 12866.

Authority: 16 U.S.C. 1801 et seq.

Dated: June 26, 2000.
Richard W. Surdi,
Acting Director, Office of Sustainable Fisheries, National Marine Fisheries Service.

[FR Doc. 00-16463 Filed 6-26-00; 3:18 pm]

BILLING CODE 3510-22-F